DEPARTMENT OF THE INTERIOR

Fish and Wildlife Service

50 CFR Part 17

Notice of Availability of the Final Recovery Plan for Gabbro Soil Plants of the Central Sierra Nevada Foothills

AGENCY: U.S. Fish and Wildlife Service, Interior.

ACTION: Notice of document availability.

SUMMARY: We, the U.S. Fish and Wildlife Service, announce the availability of the final Recovery Plan for Gabbro Soil Plants of the Central Sierra Nevada Foothills. This recovery plan covers four plants listed as endangered: Stebbins' morning-glory (Calystegia stebbinsii), Pine Hill ceanothus (Ceanothus roderickii), Pine Hill flannelbush (Fremontodendron californicum ssp. decumbens), and El Dorado bedstraw (Galium californicum ssp. sierrae); one plant listed as threatened, Layne's butterweed (Senecio layneae); and one plant species of concern, El Dorado mule-ears (Wyethia reticulata).

ADDRESSES: Copies of this recovery plan are available by request from the Sacramento Fish and Wildlife Office, 2800 Cottage Way, Room W-2605, Sacramento, California 95825. Recovery Plans may also be obtained from: Fish and Wildlife Reference Service, 5430 Grosvenor Lane, Suite 110, Bethesda, Maryland 20814, 301/429-6403 or 1-800-582-3421. The fee for the plan varies depending on the number of pages of the plan. This recovery plan will be made available on the World Wide Web at http://www.r1.fws.gov/ecoservices/endangered/recovery/default.htm.

FOR FURTHER INFORMATION CONTACT: Kirsten Tarp, Fish and Wildlife Biologist, at the above Sacramento address.

SUPPLEMENTARY INFORMATION:

Background

Recovery of endangered or threatened animals and plants is a primary goal of our endangered species program. A species is considered recovered when the species' ecosystem is restored and/or threats to the species are removed so that self-sustaining and self-regulating populations of the species can be supported as persistent members of native biotic communities. Recovery plans describe actions considered necessary for the conservation of the species, establish criteria for downlisting or delisting listed species, and estimate time and cost for implementing the measures needed for recovery.

The Endangered Species Act of 1973, as amended in 1988 (Act) (16 U.S.C. 1531 et seq.), requires the development of recovery plans for listed species unless such a plan would not promote the conservation of a particular species. Section 4(f) of the Act requires that public notice and an opportunity for public review and comment be provided during recovery plan development. Information presented during the public comment period has been considered in the preparation of this final recovery plan, and is summarized in an appendix to the recovery plan. We will forward substantive comments regarding recovery plan implementation to appropriate Federal or other entities so that they can take these comments into account during the course of implementing recovery actions.

The six species of plants covered in the final recovery plan are primarily restricted to gabbro soils habitat in the central Sierra Nevada foothills of California. Conversion of habitat to urban uses has extirpated the listed species and species of concern from a significant portion of their historic ranges. The remaining natural communities are highly fragmented, and many are marginal habitats in which these species may not persist during catastrophic events.

Interim goals include stabilizing and protecting populations, conducting research necessary to refine reclassification and recovery criteria, and reclassifying to threatened (i.e., downlisting) Stebbins' morning-glory and Pine Hill ceanothus, species currently federally listed as endangered. The ultimate goals of this recovery plan are: (1) Protect and restore sufficient habitat and numbers of populations; (2) ameliorate both the threats that caused five of the gabbro soil plants to be listed and any other newly identified threats; (3) delist Stebbins' morning-glory, Pine Hill ceanothus, and Layne's butterweed, and downlist Pine Hill flannelbush and El Dorado bedstraw; and (4) ensure the long-term conservation of El Dorado mule-ears.

Authority

The authority for this action is section 4(f) of the Endangered Species Act, 16 U.S.C. 1533(f).

Steve Thompson,
Manager, California/Nevada Operations Office, Region 1, U.S. Fish and Wildlife Service.

[FR Doc. 02-31175 Filed 12-10-02; 8:45 am]

BILLING CODE 4310-55-P